DEPARTMENT OF AGRICULTURE

Grain Inspection, Packers and Stockyards Administration

Designations for the Circleville, OH; and Decatur, IN Areas

AGENCY: Grain Inspection, Packers and Stockyards Administration, USDA.

ACTION: Notice.

SUMMARY: GIPSA is announcing the designation of Columbus Grain Inspection, Inc. (Columbus); and Northeast Indiana Grain Inspection, Inc. (Northeast Indiana) to provide official services under the United States Grain Standards Act (USGSA), as amended.

DATES: Effective Date: January 1, 2014

ADDRESS: Eric J. Jabs, Chief, USDA, GIPSA, FGIS, QACD, QADB, 10383 North Ambassador Drive, Kansas City, MO 64153

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the May 13, 2013 Federal Register (78 FR 27949), GIPSA requested applications for designation to provide official services in the geographic areas presently serviced by Columbus and Northeast Indiana. Applications were due by June 12, 2013.

Columbus and Northeast Indiana were the sole applicants for designation to provide official services in these areas. As a result, GIPSA did not ask for additional comments.

GIPSA evaluated all available information regarding the designation criteria in section 79(f) of the USGSA (7 U.S.C. 79(f)) and determined that Columbus and Northeast Indiana are qualified to provide official services in the geographic area specified in the Federal Register on May 13, 2013. This designation action to provide official services in these specified areas is effective January 1, 2014 and terminates on December 31, 2016.

Interested persons may obtain official services by contacting these agencies at the following telephone numbers:

Official agency | Headquarters location and telephone | Designation start | Designation end
Columbus | Circleville, OH, (740) 474-3519 | 1/1/2014 | 12/31/2016
Northeast Indiana | Decatur, IN, (260) 341-7497 | 1/1/2014 | 12/31/2016

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2013-30748 Filed 12-24-13; 8:45 am]

BILLING CODE 3410-KD-P